NATIONAL AERONAUTICS AND SPACE ADMINISTRATION

[NASA Document No. 2020-031]

NASA Guidance Documents Web Portal

AGENCY: National Aeronautics and Space Administration.

ACTION: Notice.

SUMMARY: The National Aeronautics and Space Administration (NASA) is publishing this notice to announce and describe its Web Portal that contains the Agency's guidance documents that is accessible to the public.

ADDRESSES: NASA's guidance Web Portal is available at https://nodis3.gsfc.nasa.gov/CFR_rep/CFR_list.cfm.

FOR FURTHER INFORMATION CONTACT: Nanette Smith, Team Lead for NASA Directives and Regulations, Mission Support Operations, 202-358-0819, nanette.jennings@nasa.gov.

SUPPLEMENTARY INFORMATION:

Executive Order 13891, Promoting the Rule of Law Through Improved Agency Guidance Documents (84 FR 55235), issued on October 9, 2019, directs agencies to (1) treat guidance documents as non-binding unless specified in law or contract; (2) seek public input when promulgating significant guidance documents; and (3) establish a single, searchable, public-facing Web Portal containing all current guidance documents with the ability for interested persons to submit petition requests for withdrawal or modification of guidance documents, or complaints about misapplications. In accordance with Executive Order 13891, NASA announces that its guidance Web Portal is available at https://nodis3.gsfc.nasa.gov/CFR_rep/CFR_list.cfm.

The Order also directs agencies to review guidance documents and, consistent with applicable law, rescind those guidance documents that should no longer be in effect. In response to Executive Order 13563, Improving Regulation and Regulatory Review, NASA developed a strong, ongoing culture of reviewing its guidance documents when the Agency conducted a retrospective analysis of existing guidance documents to determine which should be repealed, revised or retained as is. As part of this analysis, NASA implemented a process for its guidance documents to be reviewed every five years for effectiveness to ensure that they remain current. Therefore, all guidance documents listed on the Agency's Web Portal are consistent with applicable law and currently in effect.

Nanette Smith,
Team Lead for NASA Directives and Regulations, Mission Support Operations.

[FR Doc. 2020-05326 Filed 3-13-20; 8:45 am]

BILLING CODE 7510-13-P